DEPARTMENT OF AGRICULTURE

Forest Service

Approval of New Information Collection for Forest Land Enhancement Program

AGENCY: Forest Service, USDA.

ACTION: Notice of intent; request for comments.

SUMMARY: In accordance with the Paperwork Reduction Act of 1995, the Forest Service announces its intent to seek approval of a new information collection to implement the recently enacted Forest Land Enhancement Program. This information collection consists of 7 components: (1) Forest Land Enhancement Program State priority plans; (2) State program accomplishment reports; (3) landowner management plans; (4) applications for cost-share payments; (5) program assignment of payment, (6) IRS income reporting requirements for participants; and (7) Power of Attorney forms.

DATES: Comments must be received in writing on or before November 19, 2002.

ADDRESSES: All comments should be addressed to: Cooperative Forestry Staff, Forest Service, USDA, Stop Code 1123, 1400 Independence Avenue, SW., Washington, DC 20250-1123.

FOR FURTHER INFORMATION CONTACT: Hal Brockman, Cooperative Forestry Staff at (202) 205-1694, or Susan Stein, Cooperative Forestry Staff at (202) 205-0837.

SUPPLEMENTARY INFORMATION: The Forest Service is seeking approval for a new information collection to implement a new landowner assistance program recently authorized through the Farm Security and Rural Investment Act of 2002. The first two collections (State Priority Plans and State Accomplishments Reports) are necessary for the Forest Service to manage the Forest Land Enhancement Program (also referred to as the Program), which, by law, is implemented through State forestry agencies. The third collection (Management Plans) will be used by State forestry agencies to assure landowner eligibility for the Program.

The remainder of the information (Application for Cost-Share Payments, Assignment of Payment, Power of Attorney 1, Power of Attorney 2, and Payment Limitation Requirements) will be collected from landowners requesting cost-share funds. Only the first form is mandatory for all applicants. In some States, this information may be collected by the Farm Services Agency. In other States, this information or similar information may be collected through State-managed or State-contracted services.

For the purposes of the Program, the term “State” includes any of the United States, the District of Columbia, the Commonwealth of Puerto Rico, the Virgin Islands of the United States, Guam, American Samoa, and the Commonwealth of the Northern Mariana Islands.

Data gathered in this information collection is not available from other sources.

Description of Information Collections

1. Title: State Priority Plan.

OMB Number: 0596-New.

Type of request: Approval of a new information collection.

Abstract: The State priority plan will describe how the Program will be implemented in each State. Plans describe (1) how this program complements other USDA programs; (2) the distribution of available funding for administration, resource management expertise/technical assistance, education, and cost-share; (3) how cost-share funds shall be made available to eligible participants; (4) ownership and acreage limitations; (5) what constitutes a management plan (which is required if a landowner is to receive cost-share assistance for practice implementation); (6) landowner cost-share payment limitations; (7) elegible cost-share practices; (8) how funds may be distributed to participants; and (9) program application and reimbursement processes.

Estimate of burden: 284 hours.

Type of respondents: Plans are prepared by State forestry staff with input from members of State Forest Stewardship Coordination Committees (which include representatives of Federal and State agencies, private landowners, and forestry/conservation organizations).

Estimated number of responses per respondent: 1 plan per State.

Estimated total burden on respondents: 16,756 hours.

2. Title: State Accomplishment Reports.

OMB Number: 0596-New.

Type of request: Approval of a new information collection.

Abstract: State Program accomplishment reports will provide statistics on various aspects of program implementation such as the number of acres and ownerships treated, numbers of technical site visits provided, and numbers of workshops held.

Estimate of burden: 40.6 hours.

Type of respondents: Accomplishments reports are prepared by State forestry staff.

Estimated annual number of responses per respondent: 2 per State.

Estimated total burden on respondents: 4,791 hours.

3. Title: Landowner Management Plan.

OMB Number: 0596-New.

Type of request: Approval of a new information collection.

Abstract: The landowner management plan is typically prepared by a State forestry agency (or a certified forestry consultant hired by a State forestry agency), with input from the forest owner. The plan lays out management objectives for the forest or stand in question.

Estimate of burden: 4 hours.

Type of respondents: Non-industrial private forest owners.

Estimated number of respondents: 8,300.

Estimated number of responses per respondent: 1 per plan.

Estimated total annual burden on respondents: 33,200 hours.

4. Title: Application for Cost-share Payments.

OMB Number: 0596-New.

Type of Request: Approval of a new information collection.

Abstract: This information is collected from landowners applying for cost-share payments as well as from State forestry personnel and is used to track the implementation of cost-share practices. The information is used to describe the practice to be cost-shared, record the estimated timing of practice completion, verify practice completion, determine landowner eligibility, identify the location of the property, record the cost-share amount approved, and several other administrative aspects of program management. Landowners also provide signatures to verify that they have covered a specified cost of the practice. The landowner also signs a statement agreeing to refund all or part of the cost-share assistance received if, before the specified practice lifespan, the landowner destroys the approved practice, or voluntarily relinquishes control over the land and the new owner or operator of the land does not agree in writing to properly maintain the practice for the remainder of the lifespan.

Estimate of burden: 15 minutes.

Type of respondents: Non-industrial private forest owners.

Estimated number of respondents: 8,300.

Estimated number of responses per respondent: 1.5 per form.

Estimated total annual burden on respondents: 3113 hours.

5. Title: Assignment of Payment.

OMB Number: 0596-New.

Type of request: Approval of a new information collection.

Abstract: This information is collected to assign cost-share payment to a third party at the request of a program participant. Information includes the payment amount assigned, and the names, addresses, and signatures of assignor and assignee.

Estimate of burden: 10 minutes.

Type of respondents: Non-industrial private forest owners.

Estimated number of respondents: 8,300.

Estimated number of responses per respondent: 1 per form.

Estimated total annual burden on respondents: 1383 hours.

6. Title: Power of Attorney, Form 1.

OMB Number: 0596-New.

Type of request: Approval of a new information collection.

Abstract: This information is used to appoint power of attorney for the landowner. The landowner indicates whether power of attorney is being granted for (1) all actions; (2) the signing of an application; (3) the receiving of payments; (4) pledge of agreements; (5) the making of reports; or (6) “other”. It includes a signature by the landowner and witnesses.

Estimate of burden: 5 minutes.

Type of respondents: Non-industrial private forest owners.

Estimated number of respondents: 8,300.

Estimated number of responses per respondent: 1 per form.

Estimated total annual burden on respondents: 692 hours.

7. Title: Power of Attorney, Form 2.

OMB Number: 0596-New.

Type of request: Approval of a new information collection.

Abstract: This information is provided by participants who are husband and wife and who wish to assign each other power of attorney. It includes signatures by the husband and wife.

Estimate of burden: 5 minutes.

Type of respondents: Non-industrial private forest owners.

Estimated number of respondents: 8,300.

Estimated number of responses per respondent: 1 per form.

Estimated total annual burden on respondents: 692 hours.

8. Title: Payment Limitation Requirements.

OMB Number: 0596-New.

Type of request: Approval of a new information collection.

Abstract: This information is used to review payment limitation requirements and assure that landowners do not exceed any annual or life-of-program caps. It is also used to meet IRS income reporting requirements. Program participants provide their names and addresses, entity identification numbers, and date the entity formed. They also indicate the type of entity (e.g. whether an individual, irrevocable trust, revocable trust, corporation, limited partnership, general partnership, joint venture, estate, or “other”). Participants also list all stockholders, members, heirs, or beneficiaries having an interest in the entity.

Estimate of burden: 25 minutes.

Type of respondents: Non-industrial private forest owners.

Estimated number of respondents: 8,300.

Estimated number of responses per respondent: 1 per form.

Estimated total annual burden on respondents: 3,458 hours.

Comment is Invited

The agency invites comments on the following: (a) Whether the proposed collection of information is necessary for the proper performance of the functions of the agency, including whether the information will have practical utility; (b) the accuracy of the agency' estimate of the burden of the proposed collection of information, including the validity of the methodology and assumptions used; (c) ways to enhance the quality, utility, and clarity of the information to be collected; and (d) ways to minimize the burden of the collection of information on the respondents, including the use of automated, electronic, mechanical, or other technological collection techniques or other forms of information technology.

Use of Comments

All comments received in response to this notice, including name and addresses when provided, will become a matter of public record. Comments received in response to this notice will be summarized and included in the request to Office of Management and Budget for approval.

Dated: September 12, 2002.
Robin L. Thompson,
Associate Deputy Chief, State and Private Forestry.

[FR Doc. 02-23858 Filed 9-19-02; 8:45 am]

BILLING CODE 3410-11-P